DEPARTMENT OF HOMELAND SECURITY

Coast Guard

33 CFR Part 100

[Docket No. USCG-2012-0954]

Special Local Regulation; Annual Marine Events on the Colorado River Between Davis Dam (Bullhead City, AZ) and Headgate Dam (Parker, AZ) Within the San Diego Captain of the Port Zone

AGENCY: Coast Guard, DHS.

ACTION: Notice of enforcement of regulation.

SUMMARY: The Coast Guard will enforce special local regulations during the Lake Havasu City Boat Parade of Lights on December 01, 2012 from 5 p.m. to 9 p.m. This event occurs on Lake Havasu on the Bridgwater Channel. These special local regulations are necessary to provide for the safety of the participants, crew, spectators, sponsor vessels of the regatta, and general users of the waterway. During the enforcement period, persons and vessels are prohibited from entering into, transiting through, or anchoring within this safety zone unless authorized by the Captain of the Port, or his designated representative.

DATES: The regulations in 33 CFR 100.1102 will be enforced on December 1, 2012 from 5 p.m. until 9 p.m.

FOR FURTHER INFORMATION CONTACT: If you have questions on this notice, call or email Petty Officer Bryan Gollogly, Waterways Management, U.S. Coast Guard Sector San Diego, CA; telephone (619) 278-7656, email D11-PF-MarineEventsSanDiego@uscg.mil.

SUPPLEMENTARY INFORMATION: The Coast Guard will enforce the special local regulations in 33 CFR 100.1102 in support of the Lake Havasu City Boat Parade of Lights (Item 10 on Table 1 of 33 CFR 100.1102). The Coast Guard will enforce the special local regulations between Thompson Bay and Windsor State Beach on December 01, 2012 from 5 p.m. to 9 p.m. The event will include approximately fifty powerboats and sailboats participating in a follow-the-leader style parade. The vessels will be decorated in Christmas lights according to a predetermined theme. The route will begin in Thompson Bay, proceed through the channel, make a large circle in Windsor bay, and return to Thompson Bay along the same route.

Under the provisions of 33 CFR 100.1102, persons and vessels are prohibited from entering into, transiting through, or anchoring within this safety zone unless authorized by the Captain of the Port, or his designated representative. The Coast Guard may be assisted by other Federal, State, or local law enforcement agencies in enforcing this regulation.

This notice is issued under authority of 33 CFR 100.1102 and 5 U.S.C. 552(a). In addition to this notice in the Federal Register, the Coast Guard will provide the maritime community with extensive advance notification of this enforcement period via the Local Notice to Mariners, state, or local agencies.

Dated: November 5, 2012.
S.M. Mahoney,
Captain of the Port San Diego, United States Coast Guard.

[FR Doc. 2012-28395 Filed 11-21-12; 8:45 am]

BILLING CODE 9110-04-P